FEDERAL COMMUNICATIONS COMMISSION

47 CFR Part 54

[WC Docket Nos. 17-287, 11-42 and 09-197; Report No. 3141; FRS 16467]

Petitions for Reconsideration of Action in Rulemaking Proceeding

AGENCY: Federal Communications Commission.

ACTION: Petitions for Reconsideration.

SUMMARY: Petitions for Reconsideration (Petitions) have been filed in the Commission's proceeding by Nicholas G. Alexander, on behalf of Telscape Communications, Inc. dba TruConnect and Sage Telecom Communications, LLC, Derrick B. Owens, on behalf of WTA-Advocates for Rural Broadband, and Brita D. Strandberg, on behalf of Sprint Corporation.

DATES: Oppositions to the Petitions must be filed on or before March 2, 2020. Replies to an opposition must be filed on or before March 10, 2020.

ADDRESSES: Federal Communications Commission, 445 12th Street SW, Washington, DC 20554.

FOR FURTHER INFORMATION CONTACT: Nicholas Page, Attorney Advisor, Wireline Competition Bureau, Telecommunications Access Policy Division, (202) 418-2783.

SUPPLEMENTARY INFORMATION: This is a summary of the Commission's document, Report No. 3141, released January 30, 2020. The full text of the Petitions is available for viewing and copying at the FCC Reference Information Center, 445 12th Street SW, Room CY-A257, Washington, DC 20554. Petitions also may be accessed online via the Commission's Electronic Comment Filing System at: http://apps.fcc.gov/ecfs/. The Commission will not send a Congressional Review Act (CRA) submission to Congress or the Government Accountability Office pursuant to the CRA, 5 U.S.C. 801 because no rules are being adopted by the Commission.

Subject: Bridging the Digital Divide for Low-Income Consumers; Lifeline and Link Up Reform and Modernization; Telecommunications Carriers Eligible for Universal Service Support, WC Docket Nos. 17-287, 11-42, and 09-197, Fifth Report and Order, Memorandum Opinion and Order and Order on Reconsideration, and Further Notice of Proposed Rulemaking, FCC 19-111, published at 84 FR 71308, December 27, 2019. This document is being published pursuant to 47 CFR 1.429(e). See also 47 CFR 1.4(b)(1) and 1.429(f), (g).

Number of Petitions Filed: 3.

Federal Communications Commission.
Marlene Dortch,
Secretary, Office of the Secretary.

[FR Doc. 2020-02926 Filed 2-13-20; 8:45 am]

BILLING CODE 6712-01-P